DEPARTMENT OF THE INTERIOR

Fish and Wildlife Service

[FWS-R1-ES-2015-N076; FXES11130100000-156-FF01E00000]

Endangered and Threatened Wildlife and Plants; Revised Draft Recovery Plan for the Coterminous United States Population of Bull Trout and Draft Recovery Unit Implementation Plans

AGENCY: Fish and Wildlife Service, Interior.

ACTION: Notice of document availability for review and public comment.

SUMMARY: We, the U.S. Fish and Wildlife Service (Service), announce the availability of six draft recovery unit implementation plans (RUIPs) that are part of the recovery plan we are developing for the coterminous United States population of bull trout (Salvelinus confluentus). On September 4, 2014, we announced the availability of the Revised Draft Recovery Plan for the Coterminous United States Population of Bull Trout, along with a 90-day comment period. While the revised draft recovery plan proposed the specific goals, objectives, and criteria that should be met to remove the species from the Federal List of Endangered and Threatened Wildlife, the principal conservation actions needed to advance the recovery of bull trout had not yet been developed. We have been working through an interagency collaboration of interested and knowledgeable Federal, Tribal, State, private, and other parties to develop individual draft RUIPs that propose site-specific conservation actions for each of six recovery units (Coastal, Klamath, Mid-Columbia, Columbia Headwaters, Upper Snake, and St. Mary). Based on comments received on the revised draft recovery plan, we are also proposing a modification to the recovery criteria for the Columbia Headwaters Recovery Unit. We consider this a substantive change to the current revised draft recovery plan. We request review and comment on the draft RUIPs and recovery criteria modifications from Federal, State and local agencies, Native American Tribes, and the public.

DATES: In order to be considered, comments on the draft RUIPs and modified recovery criteria must be received on or before July 20, 2015.

ADDRESSES: Electronic copies of the draft recovery unit implementation plans, as well as the revised draft recovery plan of September 2014 and a summary of newly proposed recovery criteria, are available at http://www.fws.gov/endangered/species/recovery-plans.html and http://www.fws.gov/pacific/ecoservices/endangered/recovery/plans.html. These documents are also available by request from the U.S. Fish and Wildlife Service, Idaho Fish and Wildlife Office, 1387 S. Vinnell Way, Room 368, Boise, ID 83709; telephone (208) 378-5345.

If you want to comment, you may submit written comments by one of the following methods:

(1) You may submit written comments and materials to Bull Trout Recovery, Idaho Fish and Wildlife Office, at the above Boise address;

(2) You may hand-deliver written comments to our Idaho Fish and Wildlife Office, at the above Boise address, or fax them to (208) 378-5262; or

(3) You may send comments by email to fw1bulltroutrecoveryplan@fws.gov.

FOR FURTHER INFORMATION CONTACT: Michael Carrier, State Supervisor, U.S. Fish and Wildlife Service, Idaho Fish and Wildlife Office, at the above Boise address; telephone (208) 378-5243. If you use a telecommunications device for the deaf (TDD), call the Federal Information Relay Service (FIRS) at 1-800-877-8339.

SUPPLEMENTARY INFORMATION:

Background

In November 1999, all populations of bull trout (Salvelinus confluentus) within the coterminous United States were listed as a threatened species pursuant to the Endangered Species Act of 1973, as amended (16 U.S.C. 1531 et seq.; Act) (64 FR 58910; November 1, 1999). This final listing added bull trout in the Coastal-Puget Sound populations (Olympic Peninsula and Puget Sound regions) and Saint Mary-Belly River populations (east of the Continental divide in Montana) to the previous listing of three distinct population segments of bull trout in the Columbia River, Klamath River, and Jarbidge River basins (63 FR 31647, June 10, 1998; 64 FR 17110, April 8, 1999).

Recovery of endangered and threatened animals and plants is a primary goal of our endangered species program. To help guide the recovery effort, we prepare recovery plans for most listed species. Recovery plans describe actions considered necessary for conservation of the species, establish criteria for downlisting or delisting, and estimate time and cost for implementing recovery measures.

For the coterminous population of bull trout, three separate draft bull trout recovery plans were completed in 2002 and 2004. The 2002 draft recovery plan (USFWS 2002) addressed bull trout populations within the Columbia, St. Mary-Belly, and Klamath River basins and included individual chapters for 24 separate recovery units. In 2004, draft recovery plans were developed for the Coastal-Puget Sound drainages in western Washington, including two recovery unit chapters (USFWS 2004a), and for the Jarbidge River in Nevada (USFWS 2004b). Although none of these draft recovery plans were finalized, they served to identify recovery actions across the range of the species, and provided the framework for implementing numerous recovery actions by our partner agencies, local working groups, and others since that time.

Revised Draft Recovery Plan

On September 4, 2014, the Service announced the availability of a Revised Draft Recovery Plan for the Coterminous United States Population of Bull Trout (79 FR 52741).

The primary recovery strategy for bull trout in the coterminous United States proposed in the revised draft recovery plan is to: (1) Conserve bull trout so that they are geographically widespread across representative habitats and demographically stable in six recovery units; (2) effectively manage and ameliorate the primary threats in each of six recovery units at the core area scale such that bull trout are not likely to become endangered in the foreseeable future; (3) build upon the numerous and ongoing conservation actions implemented on behalf of bull trout since their listing in 1999, and improve our understanding of how various threat factors potentially affect the species; (4) use that information to work cooperatively with our partners to design, fund, prioritize, and implement effective conservation actions in those areas that offer the greatest long-term benefit to sustain bull trout and where recovery can be achieved; and (5) apply adaptive management principles to implementing the bull trout recovery program to account for new information.

The revised draft recovery plan also proposed recovery criteria that represent our best assessment of the conditions that would most likely result in a determination that listing under the Act is no longer required. For bull trout, these conditions would be met when conservation actions have been implemented to ameliorate the primary threats in suitable habitats in each of the six recovery units. Additionally, proposed recovery criteria were drafted with the acknowledgement that despite our best conservation efforts, it is possible that some existing bull trout core areas may become extirpated due to various factors, including the effects of small populations, isolation, and possible future climate change effects.

If threats are effectively managed at the thresholds established in the revised draft recovery plan, we expect that bull trout populations will respond accordingly and reflect the biodiversity principles of resiliency, redundancy, and representation. Specifically, achieving the proposed recovery criteria in each recovery unit would result in geographically widespread and demographically stable local bull trout populations within the range of natural variation, with their essential cold water habitats connected to allow their diverse life history forms to persist into the foreseeable future; therefore, the species would be brought to the point where the protections of the Act are no longer necessary.

During the 90 day comment period, we received 70 comment letters from 4 federal agencies, 5 state agencies, 6 Native American tribes, 9 utilities/commissions/counties, 20 environmental or conservation organizations, 26 individuals, and 4 peer reviewers. Several commenters provided new and updated scientific information or suggested revisions or changes in the revised draft recovery plan. New scientific information will be incorporated or updated in the final recovery plan where appropriate.

In general, most of the comments were centered around: (1) The six recovery unit structure and boundary delineations, with several suggested boundary changes or further splitting of recovery units (i.e., separating the core areas in the lower Columbia/Willamette watersheds from the rest of the Coastal Recovery Unit, separating the Malheur drainage from the rest of the Upper Snake Recovery Unit, and/or moving the Clearwater drainage from the Mid-Columbia to Upper Snake Recovery Unit); (2) lack of support for the proposed threshold for effective threat management in recovery criteria for the Coastal, Mid-Columbia, Upper Snake, and Columbia Headwaters Recovery Units (i.e., primary threats effectively managed in 75 percent of core areas, representing 75 percent of local populations within each recovery unit), which many believe does not conserve all remaining bull trout populations; (3) concern that the revised draft recovery plan abandons demographic or population targets proposed in earlier draft recovery plans for bull trout; and (4) requests for further explanation and detail regarding the role of monitoring and evaluation in bull trout recovery.

Any changes resulting from these comments will be reflected when the final recovery plan is published, and a detailed response to comments will be included as an appendix to the final recovery plan. We are continuing to review proposed modifications to the recovery unit boundaries, but at present the draft RUIPs continue to be based upon the original recovery unit boundaries as published in the revised draft recovery plan. Based on comments received, we propose modifying the recovery criteria for the Columbia Headwaters Recovery Unit to address simple and complex core areas separately. Given that this is a substantive change to the revised draft recovery plan, we request public comment on the criteria as modified. A link to the amended recovery criteria is available at the Web addresses above. Note also that the current status and expected needs for bull trout monitoring and evaluation at the recovery unit and core area level are now discussed in greater detail within the draft RUIPs.

The final bull trout recovery plan will describe the principal actions needed to advance the recovery of bull trout in the six recovery units within the coterminous United States; and will include individual RUIPs for each recovery unit that will provide site-specific detail at the core area scale. The RUIPs for each recovery unit have been developed through an interagency collaboration of interested and knowledgeable Federal, Tribal, State, private, and other parties prior to completion of the final recovery plan. In many parts of the range of bull trout, local interagency bull trout working groups have previously identified and are already implementing recovery actions necessary for local bull trout core area conservation. Much of this existing information has been incorporated into the RUIPs where appropriate. RUIPs incorporated in the final recovery plan will also include an implementation schedule that outline core area specific recovery actions and estimated costs for bull trout recovery.

Request for Public Comments

Section 4(f) of the Act requires us to provide public notice and an opportunity for public review and comment during recovery plan development. In an appendix to the approved final recovery plan, we will summarize and respond to the issues raised by the public and peer reviewers. Substantive comments may or may not result in changes to the recovery plan; comments regarding recovery plan implementation will be forwarded as appropriate to Federal or other entities so that they can be taken into account during the course of implementing recovery actions.

We request written comments on the six draft RUIPs and the proposed modified recovery criteria. We will consider all comments we receive by the date specified in DATES prior to final approval of the plan. If you previously submitted comments or information on the revised draft recovery plan during the initial comment period from September 4, 2014, to December 3, 2014 (79 FR 52741), you need not resubmit them. We have incorporated them into our files for the original comment period, and we will fully consider them in development of the final recovery plan.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act of 1973, as amended (16 U.S.C. 1531 et seq.).

Dated: May 12, 2015.
Richard R. Hannan,
Acting Regional Director, Pacific Region, U.S. Fish and Wildlife Service.

[FR Doc. 2015-13624 Filed 6-3-15; 8:45 am]

BILLING CODE 4310-55-P